DEPARTMENT OF HOMELAND SECURITY

Federal Emergency Management Agency

[Docket ID FEMA-2013-0002; Internal Agency Docket No. FEMA-B-1362]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Arizona:
Maricopa | City of Peoria (12-09-3053P) | The Honorable Bob Barrett, Mayor, City of Peoria, 9875 North 85th Avenue, Peoria, AZ 85345 | 9875 North 85th Avenue, Peoria, AZ 85345 | http://www.msc.fema.gov/lomc | March 7, 2014 | 040050
Maricopa | City of Phoenix (12-09-3053P) | The Honorable Greg Stanton, Mayor, City of Phoenix, 200 West Washington Street, 5th Floor, Phoenix, AZ 85003 | 200 West Washington Street, 5th Floor, Phoenix, AZ 85003 | http://www.msc.fema.gov/lomc | March 7, 2014 | 040051
Maricopa | City of Goodyear (13-09-0919P) | The Honorable Georgia Lord, Mayor, City of Goodyear, 190 North Litchfield Road, Goodyear, AZ 85338 | 119 North Litchfield Road, Goodyear, AZ 85338 | http://www.msc.fema.gov/lomc | February 21, 2014 | 040046
Maricopa | Unincorporated Areas of Maricopa County (13-09-0919P) | The Honorable Max Wilson, Chairman, Maricopa County Board of Supervisors, 301 West Jefferson, 10th Floor, Phoenix, AZ 85003 | Flood Control District of Maricopa County, 2801 West Durango Street, Phoenix, AZ 85009 | http://www.msc.fema.gov/lomc | February 21, 2014 | 040037
Colorado:
El Paso | City of Colorado Springs (13-08-0369P) | The Honorable Steve Bach, Mayor, City of Colorado Springs, 30 South Nevada Avenue, Colorado Springs, CO 80903 | 30 South Nevada Avenue, Colorado Springs, CO 80903 | http://www.msc.fema.gov/lomc | January 17, 2014 | 080060
El Paso | Unincorporated areas of El Paso County (13-08-0369P) | The Honorable Dennis Hisey, Chairperson, Board of El Paso County Commissioners, 200 South Cascades Avenue, Suite 100, Colorado Springs, CO 80903 | Regional Building Department, 101 West Costilla Street, Colorado Springs, CO 80903 | http://www.msc.fema.gov/lomc | January 17, 2014 | 080059
El Paso | City of Manitou Springs (13-08-0369P) | The Honorable Marc A. Snyder, Mayor, City of Manitou Springs, 606 Manitou Avenue, Manitou Springs, CO 80829 | City Hall, 606 Manitou Avenue, Manitou Springs, Colorado, 80829 | http://www.msc.fema.gov/lomc | January 17, 2014 | 080063
Idaho:
Bannock | Unincorporated Areas of Bannock County (13-10-0060P) | The Honorable Karl E. Anderson, Chairman, Bannock County Commissioners, 624 East Center Street, Pocatello, ID 83201 | Bannock County Office of Planning and Development, 130 North 6th Avenue, Suite C, Pocatello, ID 83201 | http://www.msc.fema.gov/lomc | December 13, 2013 | 160009
Bannock | City of Pocatello (13-10-0060P) | The Honorable Brian S. Blad, Mayor, City of Pocatello, 911 North 7th Avenue, Pocatello, ID 83201 | 911 North 7th Avenue, Pocatello, ID 83201 | http://www.msc.fema.gov/lomc | December 13, 2013 | 160012
Custer | Unincorporated Areas of Custer County (13-10-0157P) | The Honorable Wayne Butts, Chairman, Custer County Board of Commissioners, Post Office Box 385, Challis, ID 83226 | County Courthouse, 801 East Main Street, Challis, ID 83226 | http://www.msc.fema.gov/lomc | January 17, 2014 | 160211
Ada | City of Meridian (13-10-1349P) | The Honorable Dave Case, Chairman, Ada County Board of Commissioners, 200 West Front Street, Boise, ID 83702 | Public Works Department, 33 East Broadway Avenue, Meridian, ID 83642 | http://www.msc.fema.gov/lomc | February 18, 2014 | 160180
Ada | Unincorporated Areas of Ada County (13-10-1349P) | The Honorable Tammy de Weerd, Mayor, City of Meridian, 33 East Broadway Avenue, Suite 300, Meridian, ID 83642 | Public Works Department, 33 East Broadway Avenue, Meridian, ID 83642 | http://www.msc.fema.gov/lomc | February 18, 2014 | 160001
Indiana: LaGrange | Unincorporated Areas of LaGrange (13-05-7473P) | The Honorable Jac Price, President, LaGrange County Board of Commissioners, LaGrange County Annex Building, 114 West Michigan Street, LaGrange, IN 46761 | 114 West Michigan Street, LaGrange, IN 46761 | http://www.msc.fema.gov/lomc | November 21, 2013 | 180125
Illinois: Kane | Unincorporated Areas of Kane County (13-05-6235P) | The Honorable Chris Lauzen, Kane County Board Chairman, 719 Batavia Avenue, Building A, Geneva, IL 60134 | Kane County Government Center Building A, Water Resources Department, 719 Batavia Avenue, Geneva, IL 60134 | http://www.msc.fema.gov/lomc | January 8, 2014 | 170896
Iowa: Black Hawk | City of Cedar Falls (13-07-1063P) | The Honorable Jon Crews, Mayor, City of Cedar Falls, 220 Clay Street, Cedar Falls, IA 50613 | 220 Clay Street, Cedar Falls, IA 50613 | http://www.msc.fema.gov/lomc | November 18, 2013 | 190017
Kansas: Johnson | City of Overland Park (13-07-1416P) | The Honorable Carl Gerlach, Mayor, City of Overland Park, 8500 Santa Fe Drive, Overland Park, KS 66212 | 8500 Santa Fe Drive, Overland Park, KS 66212 | http://www.msc.fema.gov/lomc | March 5, 2014 | 200174
Massachusetts: Hampden | City of Holyoke (13-01-2049P) | The Honorable Alex B. Morse, Mayor, City of Holyoke, 536 Dwight Street, Holyoke, MA 01040 | City Hall, 536 Dwight Street, Holyoke, MA 01040 | http://www.msc.fema.gov/lomc | December 19, 2013 | 250142
Michigan:
Wayne | Township of Canton (13-05-6153P) | Mr. Phil LaJoy, Town of Canton Supervisor, 1150 South canton Center Road, Canton, MI 48188 | 1150 South Canton Center Road, Canton, MI 48188 | http://www.msc.fema.gov/lomc | January 13, 2014 | 260219
Midland | City of Midland Fields (13-05-3953P) | The Honorable Maureen Donker, Mayor, City of Midland Fields, 333 West Ellsworth Street, Midland, MI 48640 | 333 West Ellsworth Street, Midland, MI 48640 | http://www.msc.fema.gov/lomc | February 4, 2014 | 260140
Oakland | City of Troy (13-05-4457P) | The Honorable Dan Slater, Mayor, City of Troy, 500 West Big Beaver Road, Troy, MI 48084 | 500 West Big Beaver Road, Troy, MI 48084 | http://www.msc.fema.gov/lomc | January 28, 2014 | 260180
Missouri:
Franklin | Unincorporated Areas of Franklin County (13-07-0553P) | The Honorable Thomas Leasor, Mayor, City of Sullivan, 210 West Washington Street, Sullivan, MO 63080 | 209 West Washington Street, Sullivan, MO 63080 | http://www.msc.fema.gov/lomc | January 9, 2014 | 290136
Franklin | City of Sullivan (13-07-0553P) | The Honorable John Griesheimer, Presiding Commissioner, Franklin County Commission, 400 East Locust Street, Suite 206, Union, MO 63084 | 8 North Church Street, Suite B, Union, MO 63084 | http://www.msc.fema.gov/lomc | January 9, 2014 | 290493
St. Louis | City of Chesterfield (13-07-1008P) | The Honorable Bob Nation, Mayor, City of Chesterfield, 690 Chesterfield Parkway West, Chesterfield, MO 63017 | 690 Chesterfield Parkway West, Chesterfield, MO 63017 | http://www.msc.fema.gov/lomc | December 17, 2013 | 290896
Lincoln | City of Moscow Mills (13-07-1368P) | The Honorable Andrew Teschendorf, Mayor, City of Moscow Mills, P.O. Box 36, Moscow Mills, MO 63362 | P.O. Box 36, Moscow Mills, MO 63362 | http://www.msc.fema.gov/lomc | January 30, 2014 | 290546
Lincoln | Unincorporated Areas of Lincoln County (13-07-1368P) | Mr. Dan Colbert, Presiding Commissioner, Lincoln County, 201 Main Street, Troy, MO 63379 | 250 West Collage, Troy, MO 63379 | http://www.msc.fema.gov/lomc | January 30, 2014 | 290869
Lincoln | City of Troy (13-07-1363P) | The Honorable March Cross, Mayor, City of Troy, 800 Cap-Au-Gris Street, Troy, MO 63379 | 800 Cap-Au-Gris Street, Troy, MO 63379 | http://www.msc.fema.gov/lomc | January 30, 2014 | 290641
Lincoln | Unincorporated Areas of Lincoln County (13-07-1363P) | Mr. Dan Colbert, Presiding Commissioner, Lincoln County, 201 Main Street, Troy, MO 63379 | 250 West Collage, Troy, MO 63379 | http://www.msc.fema.gov/lomc | January 30, 2014 | 290869
Minnesota: Dakota | City of Lakeville (13-05-7174) | The Honorable Matt Little, Mayor, City of Lakeville, 20195 Holyoke Avenue, Lakeville, MN 55044 | 20195 Holyoke Avenue, Lakeville, MN 55044 | http://www.msc.fema.gov/lomc | February 14, 2014 | 270107
Nebraska:
Saunders | Unincorporated Areas of Saunders County (12-07-3332P) | The Honorable Doris Karloff, Chair, Saunders County Board, 433 North Chestnut Street, Wahoo, NE 68066 | 433 North Chestnut Street, Wahoo, NE 68066 | http://www.msc.fema.gov/lomc | February 14, 2014 | 310195
Saunders | City of Wahoo (12-07-3332P) | The Honorable Janet A. Jonas, Mayor, City of Wahoo, 605 North Broadway, Wahoo, NE 68066 | 605 North Broadway, Wahoo, NE 68066 | http://www.msc.fema.gov/lomc | February 14, 2014 | 310204
Ohio:
Stark | City of Louisville (13-05-2237P) | The Honorable Patricia A. Fallot, Mayor, City of Louisville, 215 South Mill Street, Louisville, OH 44641 | 215 South Mill Street, Louisville, OH 44641 | http://www.msc.fema.gov/lomc | March 13, 2014 | 390516
Greene | City of Beavercreek (13-05-4635P) | The Honorable Vicki Giambrone, Mayor, City of Beavercreek, 1368 Research Park Drive, Beavercreek, OH 45432 | 1368 Research Park Drive, Beavercreek, OH 45432 | http://www.msc.fema.gov/lomc | January 16, 2014 | 390876
Cuyahoga | City of Middelburg Heights (13-05-5766P) | The Honorable Garry W. Starr, Mayor, City of Middleburg Heights, 15700 Bagley Road, Middleburg Heights, OH 44130 | 15700 Bagley Road, Middleburg Heights, OH 44130 | http://www.msc.fema.gov/lomc | February 20, 2014 | 390117
Oregon:
Jackson | City Medford (13-10-0459P) | The Honorable Gary Wheeler, Mayor, City of Medford, 411 West 8th Street, Medford, OR 97501 | 411 West 8th Street, Medford, OR 97501 | http://www.msc.fema.gov/lomc | February 11, 2014 | 410096
Benton | Unincorporated Areas, Of Benton County (13-10-0260P) | The Honorable Annabelle Jaramillo, Chair, Benton County Board of Commissioners, 205 Northwest 5th Street, Corvallis, OR 97333 | 408 Southwest Monroe Avenue, Suite 111, Corvallis, OR 97333 | http://www.msc.fema.gov/lomc | November 29, 2013 | 410008
Benton | City of Philomath (13-10-0260P) | The Honorable Rocky Sloan, Mayor, City of Philomath, 980 Applegate Street, Philomath, OR 97370 | City Hall, 980 Applegate Street, Philomath, OR 97370 | http://www.msc.fema.gov/lomc | November 29, 2013 | 410011
Washington: Pierce | City of Puyallup (13-10-0154P) | The Honorable Rick Hansen, Mayor, City of Puyallup, 333 South Meridian, Puyallup, WA 98371 | 333 South Meridian, Puyallup, WA 98371 | http://www.msc.fema.gov/lomc | November 20, 2013 | 530144
Wisconsin:
Waukesha | Unincorporated Areas of Waukesha County (13-05-1048P) | Mr. Dan Vrakas, Waukesha County Executive, 515 West Moreland Boulevard, Room 320, Waukesha, WI 53188 | 515 West Moreland Boulevard, Room 230, Waukesha, WI 53188 | http://www.msc.fema.gov/lomc | January 7, 2014 | 550476
Brown | Village of Bellevue (13-05-5752P) | The Honorable Craig Beyl, Village President, Village of Bellevue, 2828 Allouez Avenue, Bellevue, WI 54311 | 2828 Allouez Avenue, Bellevue, WI 54311 | http://www.msc.fema.gov/lomc | February 6, 2014 | 550627

(Catalog of Federal Domestic Assistance No. 97.022, “Flood Insurance.”)

Dated: November 20, 2013.
Roy E. Wright,
Deputy Associate Administrator for Mitigation, Department of Homeland Security, Federal Emergency Management Agency.

[FR Doc. 2013-29036 Filed 12-3-13; 8:45 am]

BILLING CODE 9110-12-P